DEPARTMENT OF THE INTERIOR

Bureau of Ocean Energy Management

[Docket No. BOEM-2020-0018]

Alaska Outer Continental Shelf, Cook Inlet Planning Area, Oil and Gas Lease Sale 258

AGENCY: Bureau of Ocean Energy Management, Interior.

ACTION: Notice of availability; record of decision.

SUMMARY: The Bureau of Ocean Energy Management (BOEM) announces the availability of the modified record of decision (ROD) for the Cook Inlet Outer Continental Shelf (OCS) Oil and Gas Lease Sale 258. The ROD identifies the selected alternative for Lease Sale 258, which was analyzed in the “Alaska Outer Continental Shelf, Cook Inlet Planning Area, Oil and Gas Lease Sale 258 in the Cook Inlet, Alaska, Final Supplemental Environmental Impact Statement” (OCS EIS/EA BOEM 2025-035) (EIS). BOEM prepared the supplemental EIS to address deficiencies identified by the U.S. District Court for the District of Alaska (Court) in its opinion of July 16, 2024, and to inform the decision maker on whether to affirm, modify, or void Lease Sale 258. In making her decision, the Assistant Secretary for Land and Minerals Management (ASLM) considered nine alternatives, several sub-alternatives, and their potential impacts in the supplemental EIS. After careful consideration, the ASLM selected alternative 6, described in the supplemental EIS as the preferred alternative, which affirmed Lease Sale 258 as it was held in 2022 and the one lease issued from that lease sale.

ADDRESSES: The modified ROD and associated information are available on BOEM's website at https://www.boem.gov/ak258.

FOR FURTHER INFORMATION CONTACT: Casey Rowe, Bureau of Ocean Energy Management, Alaska Regional Office, 3801 Centerpoint Drive, Suite 500, Anchorage, Alaska 99503, 907-312-3788, casey.rowe@boem.gov.

SUPPLEMENTARY INFORMATION: The potential environmental effects of oil and gas activities that could result from Lease Sale (LS) 258 were originally evaluated in the “Alaska Outer Continental Shelf, Cook Inlet Planning Area, Oil and Gas Lease Sale 258 in the Cook Inlet, Alaska, Final Environmental Impact Statement” (EIS) (OCS/EIS EA BOEM 2022-061) (2022 Final EIS). The Principal Deputy Assistant Secretary, Lands and Mineral Management, signed the ROD on November 26, 2022. LS 258 was held on December 30, 2022, resulting in one lease issued. The sale was required to be held no later than December 31, 2022, by the Inflation Reduction Act (Pub. L. 119-61).

On December 21, 2022, plaintiffs Cook Inletkeeper and others filed a lawsuit in the U.S. District Court for the District of Alaska under the Administrative Procedure Act, alleging several violations of the National Environmental Policy Act. On July 16, 2024, the Court ruled partially in favor of the plaintiffs and remanded without vacatur the LS 258 EIS and ROD to BOEM to prepare a supplemental EIS to address three deficiencies identified by the Court.

On April 4, 2025, BOEM published a notice of intent (NOI) to prepare the LS 258 supplemental EIS (90 FR 14866). The supplemental EIS, completed in December 2025, considered nine alternatives and several sub-alternatives.

The ASLM selected alternative 6 and affirmed LS 258 and the one lease issued as a result of the sale. As described in the modified ROD, the ASLM fully considered the potential impacts of this action as described in the supplemental EIS, considered mitigation of potential impacts through exclusion of sensitive OCS areas and implementation of lease stipulations, and articulated factors considered in selecting the agency's preferred alternative. In making the decision, the ASLM confirmed the previously adopted lease stipulations as being the most practicable means at the lease sale stage of reducing or avoiding impacts to the environment. She also noted that the OCS Lands Act provides BOEM and BSEE with broad discretion to require additional mitigation measures for post-lease activities.

In affirming LS 258 and preserving the opportunity to explore and possibly develop the resultant lease, the ASLM's decision balances the national policies mandated by Congress to expeditiously and safely develop the natural resources of the OCS, subject to environmental safeguards, in a manner that is consistent with the maintenance of competition and other national needs. The ASLM's selection of alternative 6 and adoption of all practicable mitigation measures at the lease sale stage balances the goal of orderly resource development with protection of the human, marine, and coastal environment. Her decision also supports the production of domestic oil and gas to respond to the national energy emergency (Executive Order 14156, “Declaring a National Energy Emergency,” (Jan. 20, 2025)), as well as complying with the congressional mandate to hold LS 258 in the Inflation Reduction Act.

Alternative 6 (Preferred Alternative) includes the following exclusions and mitigation measures, described as alternatives in the supplemental EIS:

Alternative 3A (Beluga Whale Critical Habitat Exclusion)

This exclusion applies to the 10 OCS blocks that overlap with the “Area 2” beluga whale critical habitat at the northern tip of the proposed sale area analyzed in the LS 258 supplemental EIS. These OCS blocks will not be offered for lease and represent approximately 0.85 percent of the total area of the beluga whale critical habitat.

Alternative 3C (Beluga Whale Nearshore Feeding Areas Mitigation)

This mitigation measure creates temporal restrictions for on-lease seismic survey activities within the Lease Sale 258 area. On all 193 OCS blocks being offered for lease, no on-lease marine seismic surveys will be conducted between November 1 and April 1, when beluga whales are most likely to be present and distributed across the Lease Sale 258 area. The “Protection of Beluga Whales Stipulation” was included on the lease issued as a result of LS 258.

Additionally, for blocks located within 10 miles of major anadromous streams, lessees will not conduct on-lease marine seismic surveys between July 1 and September 30, when beluga whales are migrating to and from their summer feeding areas. The “Protection of Beluga Whale Nearshore Feeding Areas Stipulation” was included on the lease issued for blocks located within 10 miles of major anadromous streams.

Alternative 4A (Northern Sea Otter Critical Habitat Exclusion)

This exclusion applies to the seven OCS blocks that overlap with the northern sea otter southwest Alaska distinct population segment (SW DPS) critical habitat within the proposed sale area analyzed in the LS 258 supplemental EIS. These OCS blocks were not offered for lease.

Alternative 4B (Northern Sea Otter Critical Habitat Mitigation)

This mitigation measure prohibits lessees from discharging drilling fluids and cuttings and conducting seafloor disturbing activities (including anchoring and placement of bottom-founded structures) within 1,000 meters of areas designated as northern sea otter critical habitat. The “Protection of Northern Sea Otter SW DPS Critical Habitat Stipulation” would have been included on any leases issued on the 14 OCS blocks within 1,000 meters of northern sea otter critical habitat. The single lease issued was not within this area.

Alternative 5 (Gillnet Fishery Mitigation)

This mitigation measure applies to the 97 OCS blocks (whole or partial) located north of Anchor Point within the Lease Sale 258 area to reduce the potential for conflicts with the drift gillnet fishery. Lessees are prohibited from conducting on-lease seismic surveys during the drift gillnetting season, as designated by the Alaska Department of Fish and Game (approximately mid-June to mid-August). Lessees are required to notify the United Cook Inlet Drift Association of any temporary or permanent structures planned during the drift gillnetting season.

For each of the lease stipulations described above, lessees may request a variance at the time of filing an ancillary activities notice, an exploration plan, or a development and production plan with BOEM's regional supervisor for leasing and plans. Such requests must identify alternative methods for providing commensurate protection and analyze the effectiveness of those methods. While these mitigation measures are required by the lease itself, BOEM may require additional mitigation measures during post-lease plan and permit reviews, as appropriate.

As LS 258 has already occurred, selecting any alternatives other than those described above would not affirm that lease sale and would void the one lease issued as a result of it.

Authority: This NOA is published pursuant to the provisions of the National Environmental Policy Act (NEPA) of 1969, as amended (42 U.S.C. 4321 et seq.).

Matthew N. Giacona,
Acting Director, Bureau of Ocean Energy Management.

[FR Doc. 2025-23617 Filed 12-19-25; 8:45 am]

BILLING CODE 4340-98-P